DEPARTMENT OF LABOR

Employment and Training Administration

[TA-W-80,502; TA-W-80,502A]

Amended Certification Regarding Eligibility To Apply for Worker Adjustment Assistance

TA-W-80,502

Lexis Nexis, Quality & Metrics Department, Including Employees Located Throughout the United States Who Report to Miamisburg, OH

TA-W-80,502A

Lexis Nexis, Quality & Metrics Department, Including Employees Located Throughout the United States Who Report To Colorado Springs, CO

In accordance with Section 223 of the Trade Act of 1974, as amended (“Act”), (19 U.S.C. 2273), the Department of Labor issued a Certification of Eligibility to Apply for Worker Adjustment Assistance on February 3, 2012, applicable to workers of Lexis Nexis, Quality & Metrics Division, Miamisburg, Ohio. The workers are engaged in activities related to the supply of quality and metric services. The Department's Notice was published in the Federal Register on February 21, 2012 (77 FR 9971).

At the request of a company official, the Department reviewed the certification for workers of the subject firm. New information shows that worker separations occurred within Lexis Nexis, Quality & Metrics Department in states other than Ohio, including but not limited to Colorado, and within the State of Ohio, including but not limited to Miamisburg.

These employees provide various activities related to the supply of quality and metric services. The acquisition of these services from Manila, Philippines contributed importantly to worker separations at these locations of the subject firm.

Based on these findings, the Department is amending this certification to include workers of Lexis Nexis, Quality & Metrics Department located throughout the United States who report to the Miamisburg, Ohio facility (TA-W-80,502) and to include workers of Lexis Nexis, Quality & Metrics Department located throughout the United States who report to the Colorado Springs, Colorado facility (TA-W-80,502A).

The intent of the Department's certification is to include all workers of the subject firm who were adversely affected by the acquisition of quality and metric services from Manila, Philippines.

The amended notice applicable to TA-W-80,502 is hereby issued as follows:

All workers of Lexis Nexis, Quality & Metrics Department, including employees throughout the United States who report to, Miamisburg, OH (TA-W-80,502) and Lexis Nexis, Quality & Metrics Department, including employees throughout the United States who report to, Colorado Springs, CO (TA-W-80,502), who became totally or partially separated from employment on or after October 6, 2010, through February 3, 2014, and all workers in the group threatened with total or partial separation from employment on the date of certification through two years from the date of certification, are eligible to apply for adjustment assistance under Chapter 2 of Title II of the Trade Act of 1974, as amended.

Signed at Washington, DC this 14th day of March, 2012.
Del Min Amy Chen,
Certifying Officer, Office of Trade Adjustment Assistance.

[FR Doc. 2012-7156 Filed 3-23-12; 8:45 am]

BILLING CODE 4510-FN-P